ENVIRONMENTAL PROTECTION AGENCY

[ER-FRL-8986-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20080434, ERP No. D-FTA-G53011-TX, Southwest-to-Northeast Rail Corridor Project, Transportation Improvements in the Cities of Fort Worth, Haltom City, North Richland Hills, Colleyville, and Grapevine, Funding and U.S. Army COE Section 404 Permit, Tarrant County, TX.

Summary: EPA does not object to the proposed action. Rating LO.

EIS No. 20090249, ERP No. D-NOA-E91028-00, Amendment 3 to the 2006 Consolidated Atlantic Highly Migratory Species (HMS), Fishery Management Plan, To Implement Management Measures that Prevent Overfishing and Rebuild Overfished Stocks, Implementation.

Summary: EPA does not object to the proposed action. Rating LO.

EIS No. 20090270, ERP No. D-NRC-A09837-00, GENERIC—License Renewal of Nuclear Plants (NUREG-1437), Volumes 1 and 2, Revision 1, To Improve the Efficiency of the License Renewal Process, Implementation.

Summary: EPA does not object to the proposed action. Rating LO.

EIS No. 20090285, ERP No. D-NPS-K70010-CA, Warner Valley Comprehensive Site Plan, Addressing Natural and Cultural Resource Conflicts, Parking and Circulation Improvements in Warner Valley, Implementation, Lassen Volcanic National Park, Plumas County, CA.

Summary: EPA does not object to the proposed action. Rating LO.

EIS No. 20090323, ERP No. D-FHW-K40190-NV, I-15 Corridor Improvement and Local Arterial Improvements Project, Collectively Known as Project NEON, To Improve the Safety and Travel Efficiency in the I-15 Corridor, City of Las Vegas, Clark County, NV.

Summary: EPA expressed environmental concerns about environmental justice impacts related to relocation, air quality, and noise issues. Rating EC2.

EIS No. 20090325, ERP No. D-NHT-A86245-00, Corporate Average Fuel Economy (CAFE) Standards Passenger Car and Light Trucks Model Years 2012-2016, To Reduce National Energy Consumption by Increasing the Fuel Economy of Passenger Car and Light Trucks sold in the United States, Implementation.

Summary: EPA does not object to the proposed action. Rating LO.

EIS No. 20090346, ERP No. D-TVA-E65085-00, Northeastern Tributary Reservoirs Land Management Plan, Implementation, Beaver Creek, Clear Creek, Boone, Fort Patrick Henry, South Holston, Watauga, and Wilbur Reservoirs, Carter, Johnson, Sullivan, and Washington Counties, TN and Washington County, VA.

Summary: EPA expressed environmental concerns about direct and indirect watershed impacts. Rating EC2.

Final EISs

EIS No. 20090353, ERP No. F-AFS-F65076-WI, Northwest Sands Restoration Project, Restoring the Pine Barren Ecosystem, Implementation, Washburn District Ranger, Chequamegon-Nicolet National Forest, Bayfield County, WI.

Summary: EPA's previous request for clarification about open barrens was addressed; therefore, EPA does not object to the proposed action.

EIS No. 20090356, ERP No. F-AFS-F65075-MN, Border Project, Proposing Forest Vegetation Management and Related Transportation System Activities, LaCroix Ranger District, Superior National Forest, St. Louis County, MN.

Summary: EPA does not object to the proposed project.

EIS No. 20090364, ERP No. F-NPS-J65519-SD, Wind Cave National Park Project, Elk General Management Plan, Implementation, Custer County, SD.

Summary: No formal comment letter was sent to the preparing agency.

Dated: December 1, 2009.
Robert W. Hargrove,
Director, NEPA Compliance Division, Office of Federal Activities.

[FR Doc. E9-28965 Filed 12-3-09; 8:45 am]

BILLING CODE 6560-50-P